NUCLEAR REGULATORY COMMISSION

[NRC-2020-0064]

Information Collection: Collection of Operator Simulator Training Data

AGENCY: Nuclear Regulatory Commission.

ACTION: Notice of submission to the Office of Management and Budget; request for comment.

SUMMARY: The U.S. Nuclear Regulatory Commission (NRC) has recently submitted a renewal of an existing collection of information to the Office of Management and Budget (OMB) for review. The information collection is entitled, “Collection of Operator Simulator Training Data.”

DATES: Submit comments by February 22, 2021. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2020-0064 when contacting the NRC about the availability of information for this action. You may obtain publicly available information related to this action by any of the following methods:

• Federal Rulemaking Website: Go to https://www.regulations.gov and search for Docket ID NRC-2020-0064.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

The NRC encourages electronic comment submission through the Federal Rulemaking website (https://www.regulations.gov). Please include Docket ID NRC-2020-0064 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to the Office of Management and Budget (OMB) for review. The information collection is entitled, “Collection of Operator Simulator Training Data.” The NRC hereby informs potential respondents that an agency may not conduct or sponsor, and that a person is not required to respond to, a collection of information unless it displays a currently valid OMB control number.

The NRC published a Federal Register notice with a 60-day comment period on this information collection on September 11, 2020, (85 FR 56277).

1. The title of the information collection: Collection of Operator Simulator Training Data.

2. OMB approval number: 3150-0234.

3. Type of submission: Extension.

4. The form number if applicable: Not applicable.

5. How often the collection is required or requested: Six per year.

6. Who will be required or asked to respond: All holders of, or applicants for, a power reactor operating license under part 50 of title 10 of the Code of Federal Regulations (10 CFR), “Domestic Licensing of Production and Utilization Facilities,” except those that have certified that they have permanently ceased operations and have permanently removed all fuel from the reactor vessel. All holders of, or applicants for, a power reactor combined license under 10 CFR part 52, “Licenses, Certifications, and Approvals for Nuclear Power Plants.”

7. The estimated number of annual responses: 32.

8. The estimated number of annual respondents: 5.

9. An estimate of the total number of hours needed annually to comply with the information collection requirement or request: 148.

10. Abstract: This information collection request is to the holders of, or applicants for, a power reactor operating license under 10 CFR part 50, “Domestic Licensing of Production and Utilization Facilities,” except those that have certified that they have permanently ceased operations and have permanently removed all fuel from the reactor vessel, and the holders of, or applicants for, a power reactor combined license under 10 CFR part 52, “Licenses, Certifications, and Approvals for Nuclear Power Plants.”

This information collection is for the specified licensees to use the NRC developed Scenario Authoring, Characterization and Debriefing Application (SACADA) software for their operator simulator training. The SACADA system was developed to collect licensed operator simulator training data to inform human reliability analysis (HRA) and to facilitate operator simulator training. The SACADA software can be used to author the simulation scenarios, facilitate the post simulation debriefing on crew performance, guide performance analysis, and generate various types of reports. The information entered into the SACADA database can be used to improve simulator training effectiveness and HRA.

The South Texas Project Nuclear Operating Company has used the software for its operator simulator training since 2012 and highly regards the software. The NRC welcomes more licensees to partner with the NRC to use the software. The licensees' participation in the information collection is voluntary. In the partnership, the NRC provides the SACADA software license, training, and technical support to the participating licensees, and the participating licensees grant NRC access to analyze the data to improve the NRC's HRA techniques. An agreement will be developed to specify the details. To participate in the information collection, the licensee will notify the NRC contact that it is interested in evaluating the software. Then the NRC will provide additional information including an onsite briefing. If the licensee thinks the SACADA software could be beneficial, the NRC will provide a training session, the software license, and technical support for the licensee to pilot the use of the software in its simulator training. After the pilot study, the licensee will decide whether or not to partner with the NRC on the information collection. Either party can terminate the agreement at any time.

Dated: January 14, 2021.
For the Nuclear Regulatory Commission.
David C. Cullison,
NRC Clearance Officer, Office of the Chief Information Officer.

[FR Doc. 2021-01203 Filed 1-19-21; 8:45 am]

BILLING CODE 7590-01-P